DEPARTMENT OF THE INTERIOR

Bureau of Land Management

[16XL LLWY9200000.L51010000.ER0000.LVRWK09K0990.241A.0 4500106832]

Notice of Intent To Prepare an Environmental Assessment To Reconsider the January 19, 2017, Record of Decision Approving Segments 8 and 9 for the Gateway West Transmission Line Project, Idaho

AGENCY: Bureau of Land Management, Interior.

ACTION: Notice.

SUMMARY: In compliance with the National Environmental Policy Act of 1969, as amended (NEPA), and the Federal Land Policy and Management Act of 1976, as amended (FLPMA), and the Morley Nelson Snake River Birds of Prey National Conservation Area (NCA) Boundary Modification Act of 2017 (Modification Act), the Bureau of Land Management (BLM) is reconsidering the decision to approve a Right-of-Way (ROW) application for Segments 8 and 9 of the Gateway West 500-kilovolt (kV) Transmission Line Project (Project). By this Notice the BLM announces the beginning of scoping to solicit public comments and identify issues associated with such reconsideration, including the potential amendment of several Resource Management Plans (RMPs) and Management Framework Plans (MFPs) in the project area. The BLM analyzed the impacts of the alternative that it is reconsidering in the 2016 Gateway West Final Supplemental Environmental Impact Statement (EIS). The BLM will prepare an Environmental Assessment (EA) to reconsider the January 19, 2017 Decision, including the land use plan amendments associated with a specific action alternative identified in the Supplemental EIS.

DATES: Comments on issues may be submitted in writing until September 27, 2017. In order to be included in the analysis, all comments must be postmarked prior to the close of the 30-day scoping period.

ADDRESSES: You may submit comments on issues and planning criteria related to this EA by any of the following methods:

• Web site: https://www.blm.gov/gatewaywest

• Email: blm_id_gateway_west@blm.gov

• Fax: 208-384-3326

• Mail: BLM Boise District Office, 3948 Development Ave., Boise, ID 83705

Documents pertinent to this proposal may be examined at the BLM Boise District Office, 3948 Development Ave,, Boise, ID 83705.

FOR FURTHER INFORMATION: Contact Courtney Busse by calling 208-373-3872 or emailing at cbusse@blm.gov. You can also contact Ms. Busse to have your name added to the BLM mailing list for the Project. Persons who use a telecommunications device for the deaf (TDD) may call the Federal Relay Service (FRS) at 1-800-877-8339 to contact Ms. Busse. The FRS is available 24 hours a day, 7 days a week, to leave a message or question with Ms. Busse. You will receive a reply during normal business hours.

SUPPLEMENTARY INFORMATION: PacifiCorp, dba Rocky Mountain Power, and Idaho Power (Proponents) submitted an initial ROW application under FLPMA in 2007 to locate 500-kV electric transmission lines on Federal lands as part of the Project. The original Project comprised 10 transmission line segments originating at the Windstar Substation near Glenrock, Wyoming, and terminating at the Hemingway Substation near Melba, Idaho.

After completing NEPA analysis in an EIS, the BLM issued a Record of Decision (ROD) in November 2013 that authorized routes and associated land use plan amendments on Federal lands for Segments 1 through 7, and Segment 10, but the BLM deferred a Decision for Segments 8 and 9 in southwestern Idaho.

In August 2014, the BLM received from the Proponents a revised ROW application for Segments 8 and 9 and a revised Plan of Development for the Project, which the BLM determined required additional NEPA analysis through a Supplemental EIS. On October 7, 2016, the BLM released a Final Supplemental EIS that analyzed seven alternative ROW routes for Segments 8 and 9 and the land use plan amendments needed to accommodate each alternative route pair. The BLM issued a ROD on January 19, 2017, selecting the route described as Alternative 5 in the Final Supplemental EIS.

Following the Decision, several environmental organizations, the State of Idaho, and Owyhee County, Idaho, appealed the ROW Decision to the Interior Board of Land Appeals (IBLA). In a letter to the Secretary of the Interior, the Governor of Idaho requested that the BLM reconsider the January 19, 2017, Decision and select an alternative with fewer impacts to State and county resources and communities. The Proponents also requested that the BLM reconsider the January Decision and possibly select the alternative proposed in their revised application, as more cost-effective and providing greater system reliability. On April 18, 2017, the IBLA granted BLM's Motion to Remand the January 19, 2017, Decision for reconsideration. The BLM's Motion was unopposed.

On May 4, 2017, Congress passed the Consolidated Appropriations Act, 2017 (H.R. 244), which incorporated the Morley Nelson Snake River Birds of Prey NCA Boundary Modification Act (Modification Act) by reference (Division G, Title IV, Sec. 431(a)).

The President signed the Appropriations Act into law on May 5, 2017. The Modification Act directed the BLM to issue a ROW grant for the lands described in Sec. (b)(2) of the Modification Act for portions of Gateway West Segments 8 and 9, which represent the portions of Alternative 1 from the Final Supplemental EIS within the boundaries of the NCA. The Modification Act also removed the lands for this ROW from NCA status and stipulated that the mitigation framework presented in the Final Supplemental EIS will apply to the authorized segments. The Modification Act (Sec. (c)(1)) requires the BLM to issue the ROW (that portion in the NCA) within 90 days of the enactment of the Appropriations Act, or by August 2, 2017.

In light of the Modification Act's non-discretionary direction to issue the statutory ROW, the BLM's reconsideration of the January 19, 2017, Decision will consider the alternative(s) from the Supplemental EIS that align with the statutory ROW, so as to meet the agency's purpose and need for action, i.e., to respond to the Proponents' ROW application and the direction of the Modification Act, and the no-action alternative.

Because the route pairing described as Alternative 1 (routes described as Revised Proposed 8 and Revised Proposed 9) in the Supplemental EIS is the only alternative that meets these criteria, it will be analyzed as the action alternative for reconsideration.

Furthermore, because the statutory ROW directed the BLM to issue a ROW grant for certain portions of the routes within the NCA boundaries previously analyzed in Alternative 1 in the Supplemental EIS, the EA and subsequent decision will address only public lands identified with Alternative 1 which lie outside the NCA boundaries that existed when the Final Supplemental EIS was published (October 7, 2016, 81 FR 69845). In the EA, the BLM plans to rely on the Supplemental EIS and the 2013 Final EIS for both the ROW alternatives for Segments 8 and 9 and the corresponding land use plan amendments necessary to support the alternative.

Because the potential selection of a different ROW alternative would require a new decision for corresponding land use plan amendments, the BLM must ensure that it is satisfying the land use plan amendment requirements set forth in 43 CFR part 1600. The BLM is preparing an EA to inform reconsideration of the January 19, 2017, Decision and meet the regulatory requirements for amending land use plans, including public participation opportunities, and to ensure that any new information regarding the alternatives presented in the Supplemental EIS and 2013 Final EIS are analyzed. This Notice announces the beginning of scoping to seek public input on issues and planning criteria.

The purpose of public scoping is to determine relevant issues that will influence the scope of the EA. The BLM invites public participation and comment on those issues, potential impacts, and mitigation measures associated with granting ROWs on public lands for Segments 8 and 9 that may not have been addressed in the Final Supplemental EIS.

The BLM identified and analyzed the following issues and concerns in the Final Supplemental EIS for Segments 8 and 9 of the Project:

• Effects to the objects and values for which the Morley Nelson Snake River Birds of Prey National Conservation Area (NCA) was designated;

• Land use conflicts and inconsistency with land use plans;

• Effects of the project on local and regional socioeconomic conditions;

• Effects on wildlife habitat, plants, and animals, including threatened, endangered, and sensitive species;

• Effects to visual resources and existing view-sheds;

• Effects to historic and cultural resources;

• Effects to Indian trust assets;

• Opportunities to apply mitigation strategies for on-site, regional, and compensatory mitigation; and

• Siting on private lands versus public lands.

Planning criteria considered for the plan amendments associated with each action alternative in the Supplemental EIS include the following:

• NEPA;

• Existing laws, regulations, and BLM policies;

• Plans, programs and policies of other Federal, State, and local governments, and Indian tribes;

• Public input;

• Future needs and demands for existing or potential resource commodities and values;

• Past and present use of public and adjacent lands;

• Environmental impacts;

• Social and economic values;

• Public welfare and safety; and

• National energy policies and plans.

Land Use Plan Amendments

The Supplemental EIS identified 17 amendments to BLM land use plans needed to authorize Alternative 1. The January 2017 Decision approved two amendments to the Twin Falls MFP and one amendment to the Snake River Birds of Prey RMP that would also be necessary to authorize Alternative 1. The January Decision set aside and, remand notwithstanding, these approved plan amendments remain in effect. In addition, the Modification Act superseded the need for seven plan amendments to the Snake River Birds of Prey RMP associated with Alternative 1 analyzed in the Supplemental EIS. As a result, selecting Alternative 1 in a Decision on reconsideration would require seven plan amendments to three current BLM land use plans, as follows:

• Kuna MFP;

• Bennett Hills/Timmerman Hills MFP; and

• Jarbidge RMP (1987, for areas not covered by the 2015 Jarbidge RMP).

In order to authorize Segment 8 in Alternative 1, the Kuna MFP would need an amendment to allow the transmission line outside of existing corridors. An amendment to the Bennett Hills/Timmerman Hills MFP would be needed to allow the route near archeological sites and to change Visual Resource Management (VRM) classes. The 1987 Jarbidge RMP would need amendments to change VRM Classes, allow crossing of the Oregon National Historic Trail, and change a utility avoidance/restricted area designation.

In order to authorize Segment 9 in this alternative, the 1987 Jarbidge RMP would need an amendment to change VRM Class II to VRM Class III for areas still managed under that plan.

The route pairing identified in the Supplemental EIS as Alternative 5 (Route 8G and Route 9K) was selected in the January Decision. The January 19, 2017, ROD approved one amendment to the Bruneau MFP, two amendments to the Twin Falls MFP, and one amendment to the Snake River Birds of Prey RMP needed to grant a ROW for Alternative 5. These plan amendments remain in effect. The alignment pairing in this alternative does not connect with the ROW the BLM plans to issue pursuant to the Modification Act.

Mitigation

The Final Supplemental EIS presents a framework the BLM has developed in cooperation with the Proponents for assessing compensatory mitigation under FLPMA and for implementing NEPA regulations on mitigating project-related impacts to National Historic Trails; cultural resources; wetlands; and resources, objects, and values in the NCA. The framework discusses avoidance, minimization, and compensation measures that would be required under each alternative analyzed in the Supplemental EIS. The Modification Act directs implementation of this framework during construction of each respective project segment (Sec. 2(c)(A)). Impacts to Greater sage-grouse and migratory birds are addressed in the 2013 Final EIS for the entire, 10-segment project and in the corresponding 2013 ROD. The Supplemental EIS develops further mitigation measures for indirect effects to Greater sage-grouse.

You may submit comments in writing to the BLM using one of the methods listed in the ADDRESSES section above, according to the time frame named in the DATES section above. We will provide additional opportunities for public participation as appropriate.

During the Supplemental EIS process, the BLM coordinated through the NEPA scoping process and comment period to help fulfill the public involvement requirements under the National Historic Preservation Act (54 U.S.C. 306108) as provided in 36 CFR 800.2(d)(3). Any additional information about historic and cultural resources within the area potentially affected by the proposed action, but not available during preparation of the Supplemental EIS, will assist the BLM in identifying and evaluating impacts to such resources during preparation of the EA.

During preparation of the Supplemental EIS, the BLM consulted with Indian tribes on a Government-to-Government basis in accordance with Executive Order 13175 and other policies, and will continue such consultations during preparation of the EA. Tribal concerns, including impacts on Indian trust assets and potential impacts to cultural resources, will be given due consideration. Federal, State, and local agencies, along with Tribes and other stakeholders who may be interested in or affected by the proposed action that the BLM is evaluating, are invited to participate in the scoping process and, if eligible, may request or be requested by the BLM to participate in the development of the EA as a Cooperating Agency.

The BLM will provide a public comment period for the Draft RMP Amendment(s)/EA. The BLM will continue to work collaboratively with interested parties to identify the amendments and selected route that are best suited to local, regional, and national needs and concerns.

The BLM used an interdisciplinary approach to select an alternative from the Supplemental EIS to respond to the ROW application, and will continue this approach in reconsidering the January 19, 2017, Decision.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Timothy M. Murphy,
BLM Idaho State Director.

[FR Doc. 2017-18181 Filed 8-25-17; 8:45 am]

BILLING CODE 4310-GG-P